DEPARTMENT OF TRANSPORTATION

Federal Aviation Administration

14 CFR Parts 25, 91, 121, 125, and 129

[Docket No. FAA-2005-22997; Notice No. 05-14]

RIN 2120-A123

Reduction of Fuel Tank Flammability in Transport Category Airplanes

AGENCY: Federal Aviation Administration (FAA), DOT.

ACTION: Notice of proposed rulemaking (NPRM); extension of comment period.

SUMMARY: This action extends the comment period for an NPRM published on November 23, 2005. In the NPRM, the FAA proposed new rules that would require operators and manufacturers of transport category airplanes to take steps that, in combination with other required actions, should greatly reduce the chance of a catastrophic fuel tank explosion. The extension of the comment period is a result of requests from a number of entities to allow public comment on new information that has recently been placed in the public docket.

DATES: Send your comments on or before May 8, 2006.

ADDRESSES: You may send comments on the NPRM, identified by Docket No. FAA-2005-22997, using any of the following methods:

• DOT Docket Web site: Go to

http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of the NPRM.

Privacy: We will post all comments we receive, without change, to http://dms.dot.gov, including any personal information you provide. For more information, see the Privacy Act discussion in the SUPPLEMENTARY INFORMATION section of the NPRM.

FOR FURTHER INFORMATION CONTACT: Michael E. Dostert, FAA Propulsion/Mechanical Systems Branch, ANM-112, Transport Airplane Directorate, Aircraft Certification Service, 1601 Lind Avenue, SW., Renton, Washington 98055-4056; telephone (425) 227-2132, facsimile (425-227-1320); e-mail: mike.dostert@faa.gov.

SUPPLEMENTARY INFORMATION:

Comments Invited

The FAA continues to invite interested persons to take part in this rulemaking by sending written comments, data, or views about the NPRM we issued on November 17, 2005, Reduction of Fuel Tank Flammability in Transport Category Airplanes (70 FR 70922, November 23, 2005). We also invite comments about the economic, environmental, energy, or federalism impacts that might result from adopting the proposals in the NPRM. The most helpful comments reference a specific portion of the NPRM, explain the reason for any recommended change, and include supporting data. We ask that you send us two copies of written comments.

Background

On November 17, 2005, the Federal Aviation Administration (FAA) issued Notice No. 05-14, Reduction of Fuel Tank Flammability in Transport Category Airplanes (70 FR 70922, November 23, 2005). The comment period for the NPRM ends on March 23, 2006.

We received requests from a number of entities to extend the comment period on this NPRM by 60 days. These entities noted that information contained in a report prepared for the FAA by Sandia National Laboratories, that assesses the effectiveness of previous actions resulting from SFAR 88 at reducing the occurrence of ignition sources and associated accident rate resulting from fuel tank explosions, has only recently been placed in the public docket and they requested additional time to consider this information in their comments. In addition, the FAA will include copies of independent peer reviews of the Sandia Report and the Fuel Tank Flammability Assessment User's Manual, in the public docket for the NPRM.

The FAA agrees with the petitioners' requests for an extension of the comment period. We recognize the NPRM's contents are significant and complex. Also, the original comment period is insufficient because the additional information was not available in the public docket earlier in the comment period. Further, we understand that additional requests for extensions will be filed shortly by some entities that will be directly affected by the proposals in the NPRM. We have determined that an additional 45 days will be sufficient to allow for all commenters to collect and send information they believe necessary for the FAA to understand their concerns on the proposed rules and the additional information recently added to the NPRM public docket as previously discussed. Absent unusual circumstances, the FAA does not anticipate any further extension of the comment period for the NPRM.

On November 18, 2005, we issued a Notice of availability of proposed AC 25.981-2A, Fuel Tank Flammability, and request for comments (70 FR 71365; November 28, 2005). This Notice announced the availability of and requested comments on a proposed AC which sets forth an acceptable means, but not the only means, of demonstrating compliance with the provisions of the airworthiness standards in the NPRM. The comment period for the proposed AC ends on March 23, 2006 and is also being extended by 45 days. The extension of the comment period for the proposed AC is being published concurrently with this extension.

Extension of Comment Period

In accordance with 14 CFR 11.47(c), the FAA has reviewed the requests of a number of entities for an extension of the comment period to the NPRM. The FAA finds that an extension of the comment period for Notice No. 05-14 is consistent with the public interest, and that good cause exists for taking this action.

Accordingly, the comment period for Notice No. 05-14 is extended until May 8, 2006.

Issued in Washington, DC, on March 14, 2006.
John J. Hickey,
Director, Aircraft Certification Service.

[FR Doc. E6-4025 Filed 3-20-06; 8:45 am]

BILLING CODE 4910-13-P